DEPARTMENT OF ENERGY

Federal Energy Regulatory Commission

Combined Notice of Filings #1

Take notice that the Commission received the following electric rate filings:

Docket Numbers: ER11-3376-002.

Applicants: North Hurlburt Wind, LLC.

Description: Triennial Updated Market Power Analysis to be effective 11/27/2013.

Filed Date: 3/7/14.

Accession Number: 20140307-5197.

Comments Due: 5 p.m. ET 3/28/14.

Docket Numbers: ER11-3377-002.

Applicants: Horseshoe Bend Wind, LLC.

Description: Updated Market Power Analysis to be effective 11/27/2013.

Filed Date: 3/7/14.

Accession Number: 20140307-5196.

Comments Due: 5 p.m. ET 3/28/14.

Docket Numbers: ER11-3378-002.

Applicants: South Hurlburt Wind, LLC.

Description: Triennial Updated Market Power Analysis to be effective 11/27/2013.

Filed Date: 3/7/14.

Accession Number: 20140307-5198.

Comments Due: 5 p.m. ET 3/28/14.

Docket Numbers: ER13-1523-000.

Applicants: Blythe Energy Inc.

Description: Supplement to August 13, 2013 Updated Market Power Analysis for Southwest Region of Blythe Energy Inc.

Filed Date: 2/21/14.

Accession Number: 20140221-5130.

Comments Due: 5 p.m. ET 3/20/14.

Docket Numbers: ER14-1302-000; ER14-1302-001.

Applicants: Seminole Retail Energy Services, L.L.C.

Description: Second Supplement to February 11, 2014 Seminole Retail Energy Services, L.L.C. tariff filing.

Filed Date: 3/7/14.

Accession Number: 20140307-5250.

Comments Due: 5 p.m. ET 3/17/14.

Docket Numbers: ER14-1455-000.

Applicants: San Diego Gas & Electric Company.

Description: SDGE Amendment to Generator Interconnection Procedures to be effective 5/6/2014.

Filed Date: 3/7/14.

Accession Number: 20140307-5199.

Comments Due: 5 p.m. ET 3/28/14.

Docket Numbers: ER14-1456-000.

Applicants: PJM Interconnection, L.L.C.

Description: First Revised Service Agreement No. 3355; Queue No. W3-044 to be effective 2/4/2014.

Filed Date: 3/7/14.

Accession Number: 20140307-5233.

Comments Due: 5 p.m. ET 3/28/14.

Docket Numbers: ER14-1457-000.

Applicants: Southern California Edison Company.

Description: LGIA with Avalon Wind, LLC, Avalon Wind 2, LLC, and Valentine Solar, LLC to be effective 3/11/2014.

Filed Date: 3/10/14.

Accession Number: 20140310-5008.

Comments Due: 5 p.m. ET 3/31/14.

Docket Numbers: ER14-1458-000.

Applicants: East Texas Electric Cooperative, Inc., Sam Rayburn G&T Electric Cooperative, Inc.

Description: East Texas Electric Cooperative, Inc., et. al. Filing of Proposed Revenue Requirement for Reactive Supply and Voltage Control from Generation or Other Sources Service Under Schedule 2 of the MISO Tariff.

Filed Date: 3/7/14.

Accession Number: 20140307-5255.

Comments Due: 5 p.m. ET 3/28/14.

Docket Numbers: ER14-1459-000.

Applicants: Michigan Electric Transmission Company, LLC.

Description: Filing of a Certificate of Concurrence to be effective 2/28/2014.

Filed Date: 3/10/14.

Accession Number: 20140310-5081.

Comments Due: 5 p.m. ET 3/31/14.

Docket Numbers: ER14-1460-000.

Applicants: PJM Interconnection, L.L.C.

Description: Queue Position Z1-127; Original Service Agreement No. 3768 to be effective 2/7/2014.

Filed Date: 3/10/14.

Accession Number: 20140310-5217.

Comments Due: 5 p.m. ET 3/31/14.

Take notice that the Commission received the following land acquisition reports:

Docket Numbers: LA13-3-000.

Applicants: NextEra Energy Companies.

Description: Second Amendment to December 19, 2013 Quarterly Land Acquisition Report of the NextEra Energy Companies.

Filed Date: 3/10/14.

Accession Number: 20140310-5056.

Comments Due: 5 p.m. ET 3/31/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 10, 2014.
Nathaniel J. Davis, Sr.,
Deputy Secretary.

[FR Doc. 2014-05787 Filed 3-14-14; 8:45 am]

BILLING CODE 6717-01-P